NUCLEAR REGULATORY COMMISSION

[Docket Nos. 50-338 and 50-339; NRC-2024-0157]

Virginia Electric and Power Company; North Anna Power Station, Units 1 and 2; Subsequent License Renewal and Record of Decision

AGENCY: Nuclear Regulatory Commission.

ACTION: Notice; issuance.

SUMMARY: The U.S. Nuclear Regulatory Commission (NRC) has issued Subsequent Renewed Facility Operating License Nos. NPF-4 and NPF-7 to Virginia Electric and Power Company (Dominion, or the licensee), for North Anna Power Station, Units 1 and 2, respectively. In addition, the NRC has prepared a record of decision (ROD) that supports the NRC's decision to issue Subsequent Renewed Facility Operating License Nos. NPF-4 and NPF-7.

DATES: The Subsequent Renewed Facility Operating License Nos. NPF-4 and NPF-7 were issued on August 28, 2024.

ADDRESSES: Please refer to Docket ID NRC-2024-0157 when contacting the NRC about the availability of information regarding this document. You may obtain publicly available information related to this document using any of the following methods:

• Federal Rulemaking website: Go to https://www.regulations.gov and search for Docket ID NRC-2024-0157. Address questions about Docket IDs in Regulations.gov to Stacy Schumann; telephone: 301-415-0624; email: Stacy.Schumann@nrc.gov. For technical questions, contact the individual listed in the For Further Information Contact section of this document.

• NRC's Agencywide Documents Access and Management System (ADAMS): You may access publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. ET, Monday through Friday, except Federal holidays.

FOR FURTHER INFORMATION CONTACT: Siva P. Lingam, Office of Nuclear Reactor Regulation, U.S. Nuclear Regulatory Commission, Washington, DC 20555-0001; telephone: 301-415-1564, email: Siva.Lingam@nrc.gov.

SUPPLEMENTARY INFORMATION: Notice is hereby given that the NRC has issued Subsequent Renewed Facility Operating License Nos. NPF-4 and NPF-7 to Virginia Electric and Power Company (Dominion, or the licensee), for North Anna Power Station, Units 1 and 2, (ADAMS Accession Nos. ML24215A263 and ML24215A264), respectively. Dominion is the operator of the facility. Subsequent Renewed Facility Operating License Nos. NPF-4 and NPF-7 authorize operation of North Anna Power Station, Units 1 and 2, respectively, by Dominion at reactor core power levels not in excess of 2,940 megawatts thermal for each unit, in accordance with the provisions of the North Anna Power Station, Units 1 and 2, subsequent renewed licenses and technical specifications. Notice is also given that the ROD that supports the NRC's decision to issue Subsequent Renewed Facility Operating License Nos. NPF-4 and NPF-7 is available in ADAMS under Package Accession No. ML24215A220.

As discussed in the ROD and the final site-specific environmental impact statement (EIS), published as NUREG-1437, Supplement 7a, Second Renewal, “Site-Specific Environmental Impact Statement for License Renewal of Nuclear Plants, Supplement 7a, Second Renewal, Regarding Subsequent License Renewal for North Anna Power Station, Units 1 and 2, Final Report,” dated July 2024 (ADAMS Accession No. ML24204A104), the final EIS documents the NRC staff's environmental review, including the determination that the adverse environmental impacts of subsequent license renewal for North Anna Power Station, Units 1 and 2, are not so great that preserving the option of subsequent license renewal for energy planning decisionmakers would be unreasonable. The final EIS conclusion is based on (1) information provided in the environmental report submitted by Dominion, as supplemented, (2) the NRC staff's consultations with Federal, State, local, and Tribal agencies, (3) the NRC staff's independent environmental review, and (4) the NRC staff's consideration of public comments.

North Anna Power Station, Units 1 and 2, are pressurized light water reactors located on a site situated on the southern shore of Lake Anna in Louisa County, Virginia. The NRC staff has determined that Dominion's application for the subsquent renewed licenses, “North Anna Power Station Units 1 and 2—Application for Subsequent License Renewal,” dated August 24, 2020 (ADAMS Package Accession No. ML20246G703), as supplemented by letters dated February 4, 2021, March 17, 2021, March 24, 2021, April 1, 2021, April 29, 2021, May 27, 2021, July 29, 2021, August 5, 2021, August 26, 2021, December 6, 2021, and September 28, 2022 (ADAMS Accession Nos. ML21035A303, ML21076B025, ML21084A182, ML21091A187, ML21119A287, ML21147A293, ML21210A396, ML21217A187, ML21238A297, ML21341B437, and ML22272A041, respectively), complies with the standards and requirements of the Atomic Energy Act of 1954, as amended (the Act), and the NRC's regulations. As required by the Act and NRC regulations in chapter 1 of title 10 of the Code of Federal Regulations (10 CFR), the NRC has made appropriate findings, which are set forth in the subsequent renewed licenses.

A public notice of the NRC's acceptance for docketing of the subsequent renewed license application and an opportunity for a hearing was published in the Federal Register on October 15, 2020 (85 FR 65438). Further, a notice of intent to prepare an EIS was published on October 23, 2020 (85 FR 67572). On August 25, 2021, the NRC staff issued a draft supplemental EIS (86 FR 47525). An adjudicatory proceeding on the application was then conducted, prior to the Commission's issuance of its Memorandum and Order in CLI-22-03 (ADAMS Accession No. ML22055A554).

On November 15, 2022 (87 FR 68522), the NRC staff published a notice of its intent to prepare a draft supplemental site-specific EIS, and on January 8, 2024 (89 FR 960), the staff issued a draft site-specific EIS for comment and an additional opportunity for hearing. As stated therein, the draft site-specific EIS superseded the 2021 draft supplemental EIS. A petition to intervene was then filed by Beyond Nuclear, Inc. and Sierra Club, Inc. (collectively petitioners) regarding the adequacy of the draft site-specific EIS. On July 10, 2024, after considering the petitioners' views, the Atomic Safety and Licensing Board issued LBP-24-07, in which it denied the petition to intervene and terminated the proceeding (ADAMS Accession No. ML24192A320). On July 31, 2024 (89 FR 61506), the NRC staff issued the final site-specific EIS for North Anna Power Station, Units 1 and 2 subsequent license renewal.

For further details with respect to this action, see: (1) Virginia Electric and Power Company's subsequent license renewal application for North Anna Power Station, Units 1 and 2, dated August 24, 2020, as supplemented by letters dated February 4, 2021, March 17, 2021, March 24, 2021, April 1, 2021, April 29, 2021, May 27, 2021, July 29, 2021, August 5, 2021, August 26, 2021, December 6, 2021, and September 28, 2022; (2) the NRC's safety evaluation report, dated January 2022 (ADAMS Package Accession No. ML21354A174); (3) the NRC's final EIS (NUREG-1437, Supplement 7a, Second Renewal) for North Anna Power Station Units 1 and 2, dated July 2024; and (4) the NRC's ROD.

Dated: September 4, 2024.
For the Nuclear Regulatory Commission.
Michele Sampson,
Director, Division of New and Renewed Licenses, Office of Nuclear Reactor Regulation.

[FR Doc. 2024-20277 Filed 9-9-24; 8:45 am]

BILLING CODE 7590-01-P